DEPARTMENT OF HOMELAND SECURITY

Coast Guard

33 CFR Part 117

[Docket No. USCG-2010-0471]

Drawbridge Operation Regulation; Delaware River, Between Bristol, PA and Burlington, NJ

AGENCY: Coast Guard, DHS.

ACTION: Notice of temporary deviation from regulations.

SUMMARY: The Commander, Fifth Coast Guard District, has issued a temporary deviation from the regulations governing the operation of the Burlington-Bristol Bridge (Route 413), across the Delaware River, mile 117.8 between the Townships of Bristol, PA, and Burlington, NJ. The deviation is necessary to facilitate the replacement of the counterweight cables. This deviation restricts operation of the draw span but will not restrict vessels from navigating beneath the closed span.

DATES: This deviation is effective 7 p.m. July 6, 2010, until 7 a.m. July 11, 2010.

ADDRESSES: Documents mentioned in this preamble as being available in the docket are part of docket USCG-2010-0471 and are available online by going to http://www.regulations.gov, inserting USCG-2010-0471 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District, at telephone 757-398-6587, e-mail Terrance.A.Knowles@uscg.mil. If you have questions on viewing the docket, call Renee V. Wright, Program Manager, Docket Operations, telephone 202-366-9826.

SUPPLEMENTARY INFORMATION: The Burlington County Bridge Commission, who owns and operates this vertical-lift drawbridge, has requested a temporary deviation from the current operating regulations set out in 33 CFR 117.5 and 117.716(b) to facilitate the replacement of the counterweight cables.

The Burlington-Bristol Bridge (Route 413) at mile 117.8, across the Delaware River, between PA and NJ, has a vertical clearance in the closed position to vessels of 62 feet above mean high water.

Under this temporary deviation, the cable repairs will restrict the operation of the draw span on the following dates and times: Closed-to-navigation, each day from 7 p.m. to 7 a.m., from July 6, 2010 to July 11, 2010.

Vessels that can pass under the bridge without an opening may do so at all times. There are no alternate routes for vessels transiting this section of the Delaware River.

Due to the limited number and types of vessels that require bridge openings, the Coast Guard has coordinated this project with the Delaware River Pilots, and will inform the other users of the waterway through our Local and Broadcast Notices to Mariners of the closure periods for the bridge so that vessels can arrange their transits to minimize any impact caused by the temporary deviation. An emergency opening may require up to twelve hours prior notice.

In accordance with 33 CFR 117.35(e), the drawbridge must return to its regular operating schedule immediately at the end of the designated time period. This deviation from the operating regulations is authorized under 33 CFR 117.35.

Dated: May 26, 2010.
Waverly W. Gregory, Jr.,
Bridge Administrator, Fifth Coast Guard District.

[FR Doc. 2010-13910 Filed 6-9-10; 8:45 am]

BILLING CODE 4910-15-P